DEPARTMENT OF COMMERCE

International Trade Administration

[A-570-851]

Certain Preserved Mushrooms from the People's Republic of China: Postponement of Final Results of New Shipper Review and Administrative Review

AGENCY: Import Administration, International Trade Administration, United States Department of Commerce.

ACTION: Notice of extension of the time limit for the final results in the new shipper review and administrative review of the antidumping duty order on certain preserved mushrooms from the People's Republic of China.

SUMMARY: The United States Department of Commerce (“the Department”) is extending the time limit for the final results of the new shipper review and administrative review of the antidumping duty order on certain preserved mushrooms from the People's Republic of China (“PRC”). These reviews cover the period August 5, 1998, through January 31, 2000, and are being conducted concurrently.

EFFECTIVE DATE: February 6, 2001.

FOR FURTHER INFORMATION CONTACT: David J. Goldberger or Kate Johnson, Import Administration, International Trade Administration, U.S. Department of Commerce, 14th Street and Constitution Avenue, NW., Washington, DC 20230; telephone: (202) 482-4136 or (202) 482-4929, respectively.

Postponement of Final Results of Administrative Review

On March 21, 2000 and March 30, 2000, respectively, the Department initiated a new shipper review (65 FR 17257) and an administrative review (65 FR 16875) of the antidumping duty order on certain preserved mushrooms from the PRC. Pursuant to section 351.214(j)(3) of its regulations, and with the agreement of Raoping Xingyu Foods Co., Ltd. (“Raoping”), the company which requested the new shipper review, the Department is conducting the 1998-2000 administrative review and the new shipper review of Raoping concurrently. The current deadline for the final results in these reviews is March 7, 2001.

In accordance with section 751 (a)(3)(A) of the Tariff Act of 1930 (“the Act”), as amended, we determine that it is not practicable to complete these reviews within the original time frame because of the additional time required to conduct verification and to analyze issues raised in the administrative review. Thus, the Department is extending the time limit for completion of the final results until May 31, 2001, in accordance with § 351.213(h)(2) of the Department's regulations.

Dated: January 30, 2001.
Susan H. Kuhbach,
Acting Deputy Assistant Secretary for Import Administration.

[FR Doc. 01-3076 Filed 2-5-01; 8:45 am]

BILLING CODE 3510-DS-P